FEDERAL COMMUNICATIONS COMMISSION

[CG Docket No. 03-123; DA 08-60]

Applications for Certification as Certified State Telecommunications Relay Service (TRS) Programs Filed; Pleading Cycle Established for Comment on Applications

AGENCY: Federal Communications Commission.

ACTION: Notice.

SUMMARY: In this document, the Commission seeks public comment on state applications for renewal of the certification of their state TRS programs pursuant to Title IV of the Americans with Disabilities Act (ADA).

DATES: Interested parties may file comments in this proceeding no later than February 11, 2008. Reply comments may be filed no later than February 26, 2008.

ADDRESSES: Interested parties may submit comments identified by any of the following methods:

• Electronic Filers: Comments may be filed electronically using the Internet by accessing the Commission's Electronic Comment Filing System (ECFS), through the Commission's website: http://www.fcc.gov/cgb/ecfs/, or the Federal eRulemaking Portal: http://www.regulations.gov. Filers should follow the instructions provided on the website for submitting comments. For ECFS filers, in completing the transmittal screen, filers should include their full name, U.S. Postal Service mailing address, and CG Docket No. 03-123. Parties may also submit an electronic comment by Internet e-mail. To get filing instructions, filers should send an e-mail to ecfs@fcc.gov, and include the following words in the body of the message, “get form <your e-mail address>.” A sample form and directions will be sent in response.

• Paper Filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial mail sent by overnight mail (other than U.S. Postal Service Express Mail and Priority Mail) must be sent to 9300 East Hampton Drive, Capitol Heights, MD 20743.

• U.S. Postal Service first-class, Express, and Priority mail should be addressed to 445 12th Street, SW., Washington, DC 20554.

Parties who choose to file by paper should also submit their filings on compact disc. The compact disc should be submitted, along with three paper copies to: Dana Wilson, Consumer & Governmental Affairs Bureau, Disability Rights Office, 445 12th Street, SW., Room 3-C418, Washington, DC 20554. Such a submission should be on a compact disc formatted in an IBM compatible format using Word 2003 or a compatible software. The compact disc should be accompanied by a cover letter and should be submitted in “read only” mode. The compact disc should be clearly labeled with the commenter's name, proceeding (CG Docket No. 03-123), type of pleading (comment or reply comment), date of submission, and the name of the electronic file on the compact disc. The label should also include the following phrase “CD-Rom Copy—Not an Original.” Each compact disc should contain only one party's pleadings, preferably in a single electronic file. In addition, commenters filing by paper must send a compact disc copy to the Commission's duplicating contractor at Portals II, 445 12th Street, SW., Room CY-B402, Washington, DC 20554.

FOR FURTHER INFORMATION CONTACT: Dana Wilson, (202) 418-2247 (voice), (202) 418-7898 (TTY), or e-mail: Dana.Wilson@fcc.gov.

SUPPLEMENTARY INFORMATION: This is a summary of the Commission's document DA 08-60. Pursuant to 47 CFR 1.415 and 1.419, interested parties may file comments and reply comments on or before the dates indicated in the Dates section. The full text of document DA 08-60, copies of applications for certification, and subsequently filed documents in this matter are available for public inspection and copying during regular business hours at the FCC Reference Information Center, Portals II, 445 12th Street, SW., Room CY-A257, Washington, DC 20554. Document DA 08-60 also is available on the Commission's Web site at http://www.fcc.gov/cgb/dro/trs.html, and the applications for certification are available at http://www.fcc.gov/cgb/dro/trs_by_state.html. Document DA 08-60, copies of applications for certification, and subsequently filed documents in this matter may also be found by searching ECFS at http://www.fcc.gov/cgb/ecfs (insert CG Docket No. 03-123 into the Proceeding block). They may also be purchased from the Commission's duplicating contractor at Portals II, 445 12th Street, SW., Room CY-B402, Washington, DC 20554; the contractor's Web site, http://www.bcpiweb.com; or by calling (800) 378-3160.

To request materials in accessible formats for people with disabilities (Braille, large print, electronic files, audio format), send an e-mail to fcc504@fcc.gov or call the Consumer & Governmental Affairs Bureau at (202) 418-0530 (voice), (202) 418-0432 (TTY). Document DA 08-60 can also be downloaded in Word or Portable Document Format (PDF) at: http://www.fcc.gov/cgb/dro/trs.html.

Synopsis

Notice is hereby given that the states listed below have applied to the Commission for renewal of the certification of their state TRS programs pursuant to Title IV of the ADA, 47 U.S.C. 225, and the Commission's rules, 47 CFR 64.601-605. Current state certifications expire July 25, 2008. Applications for certification, covering the five year period from July 26, 2008 to July 25, 2013, must demonstrate that the state TRS program complies with section 225 and the Commission's rules governing the provision of TRS. This notice seeks public comment on the following state applications for certification:

File No: TRS-46-07

Alabama Public Service Commission, State of Alabama.

File No: TRS-19-07

Department of Commerce, State of Alaska.

File No: TRS-47-07

Arkansas Deaf and Hearing Impaired, State of Arkansas.

File No: TRS-02-07

Commission for the Deaf and Hard of Hearing, State of Arizona.

File No: TRS-32-07

California Public Utilities Commission, State of California.

File No: TRS-23-07

Colorado Public Utilities Commission, State of Colorado.

File No: TRS-48-07

Connecticut Department of Public Utility, State of Connecticut.

File No: TRS-35-07

Delaware Public Service Commission, State of Delaware.

File No: TRS-49-07

Public Service Commission, District of Columbia.

File No: TRS-50-07

Florida Public Service Commission, State of Florida.

File No: TRS-51-07

Georgia Public Service Commission, State of Georgia.

File No: TRS-22-07

Hawaii Public Utilities Commission, State of Hawaii.

File No: TRS-43-07

Idaho Public Service Commission, State of Idaho.

File No: TRS-10-07

Illinois Commerce Commission, State of Illinois.

File No: TRS-08-07

Indiana Telephone Relay Access Corporation, State of Indiana.

File No: TRS-03-07

Iowa Utilities Board, State of Iowa.

File No: TRS-07-07

Kansas Relay Services, Inc., State of Kansas.

File No: TRS-52-07

Kentucky Public Service Commission, Commonwealth of Kentucky.

File No: TRS-13-07

Louisiana Relay Administration Board, State of Louisiana.

File No: TRS-53-07

Maine Public Utilities Commission, State of Maine.

File No: TRS-33-07

Telecommunications Access of Maryland, State of Maryland.

File No: TRS-34-07

Department of Telecommunications and Energy, Commonwealth of Massachusetts.

File No: TRS-54-07

Michigan Public Service Commission, State of Michigan.

File No: TRS-39-07

Minnesota Department of Commerce, State of Minnesota.

File No: TRS-55-07

Mississippi Public Service Commission, State of Mississippi.

File No: TRS-15-07

Missouri Public Service Commission, State of Missouri.

File No: TRS-56-07

Telecommunications Access Program, State of Montana.

File No: TRS-40-07

Nebraska Public Service Commission, State of Nebraska.

File No: TRS-25-07

Relay Nevada, State of Nevada.

File No: TRS-42-07

New Hampshire Public Service Commission, State of New Hampshire.

File No: TRS-45-07

New Jersey Board of Utilities, State of New Jersey.

File No: TRS-14-07

Commission for the Deaf and Hard of Hearing, State of New Mexico.

File No: TRS-16-07

New York State Department of Public Service, State of New York.

File No: TRS-30-07

Department of Health and Human Service, State of North Carolina.

File No: TRS-12-07

Information Technology Department, State of North Dakota.

File No: TRS-37-07

Public Utilities Commission of Ohio, State of Ohio.

File No: TRS-57-07

Oklahoma Telephone Association, State of Oklahoma.

File No: TRS-36-07

Oregon Public Utilities Commission, State of Oregon.

File No: TRS-58-07

Pennsylvania Bureau of Consumer Services, Commonwealth of Pennsylvania.

File No: TRS-28-07

Telecommunications Regulatory Board, Puerto Rico.

File No: TRS-59-07

Division of Public Utilities and Carriers, State of Rhode Island.

File No: TRS-62-07

Micronesian Telecommunications Corporation, Saipan.

File No: TRS-11-07

South Carolina Office of Regulatory Staff, State of South Carolina.

File No: TRS-60-07

Department of Human Services, State of South Dakota.

File No: TRS-20-07

Tennessee Regulatory Authority, State of Tennessee.

File No: TRS-17-07

Texas Public Utility Commission, State of Texas.

File No: TRS-61-07

Innovative Telephone, U.S. Virgin Islands.

File No: TRS-09-07

Public Service Commission, State of Utah.

File No: TRS-44-07

Vermont Department of Public Service, State of Vermont.

File No: TRS-04-07

Department for the Deaf and Hard of Hearing, Commonwealth of Virginia.

File No: TRS-27-07

Office of the Deaf and Hard of Hearing, State of Washington.

File No: TRS-06-07

Public Service Commission of West Virginia, State of West Virginia.

File No: TRS-01-07

Wisconsin Department of Administration, State of Wisconsin.

File No: TRS-18-07

Division of Vocational Rehabilitation, State of Wyoming.

Federal Communications Commission.
Nicole McGinnis,
Deputy Chief, Consumer & Governmental Affairs Bureau.

[FR Doc. E8-3027 Filed 2-15-08; 8:45 am]

BILLING CODE 6712-01-P